DEPARTMENT OF COMMERCE

Foreign-Trade Zones Board

[B-30-2015]

Foreign-Trade Zone 82—Mobile, Alabama; Application for Reorganization and Expansion Under Alternative Site Framework

An application has been submitted to the Foreign-Trade Zones (FTZ) Board by the City of Mobile, grantee of FTZ 82, requesting authority to reorganize and expand the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on May 1, 2015.

FTZ 82 was approved by the FTZ Board on February 24, 1982 (Board Order 208, 48 FR 9052, 3/3/1983) and expanded on February 27, 1990 (Board Order 464, 55 FR 8159, 3/7/1990) and on December 19, 2003 (Board Order 1312, 69 FR 48, 1/2/2004).

The current zone includes the following sites: Site 1 (1,863 acres)—Downtown Mobile Airport, Port and Riverfront Industrial Complex, Mobile; Site 2 (3,169 acres)—LeMoyne Industrial Park, located on U.S. Highway 43, LeMoyne; Site 3 (70 acres)—Mobile River Industrial Park, located on U.S. Highway 43, Saraland; Site 4 (34 acres)—Frisco Industrial Park, located on Craft Highway, Mobile and Prichard; Site 7 (3,364 acres)—Theodore Industrial Complex, located on the western shore of Mobile Bay, Theodore; Site 9 (221 acres)—Loxley Industrial Park, located near County Highway 49, Loxley; Site 13 (31 acres, expires 4/30/2016)—warehouse complex, 1200 Papermill Road, Mobile; Site 14 (6 acres, expires 4/30/2016)—Metro International Trade Services, 6955 Cary Hamilton Road, Theodore; Site 15 (15 acres, expires 4/30/2016)—Metro International Trade Services, 200 Callahan Drive, 1501 Telegraph Road and 1816/1818 Craft Highway, Prichard; Site 16 (3 acres, expires 4/30/2016)—Metro International Trade Services, 1510 Telegraph Road, Mobile; Site 17 (6 acres, expires 4/30/2016)—Metro International Trade Services, 1204 Telegraph Road, Mobile; Site 18 (10 acres, expires 4/30/2016)—John Fayard Moving & Warehousing, L.L.C., warehouse complex, 6030 Rangeline Road, Theodore; and, Site 19 (4 acres, expires 4/30/2016)—Technip UK, Ltd., 3405/3425 Hurricane Bay Drive, Theodore. (Note: Sites 5, 6, 8, 10, 11 and 12 have sunsetted pursuant to Board Order 1312.)

The grantee's proposed service area under the ASF would be the Counties of Mobile, Baldwin, Butler, Choctaw, Clarke, Conecuh, Escambia, Monroe, Washington and Wilcox, as described in the application. If approved, the grantee would be able to serve sites throughout the service area based on companies' needs for FTZ designation. The proposed service area is within and adjacent to the Mobile Customs and Border Protection port of entry.

The applicant is requesting authority to reorganize and expand its existing zone as follows: Restore 80 acres at Site 1 (new acreage—1,943 acres); Sites 1 (as modified), 2, 3, 4, 7, 9, 13 and 18 would become “magnet” sites; and, Sites 14, 15, 16, 17 and 19 would become “usage-driven” sites. The ASF allows for the possible exemption of one magnet site from the “sunset” time limits that generally apply to sites under the ASF, and the applicant proposes that modified Site 1 be so exempted. The application would have no impact on FTZ 82's previously authorized subzones.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is July 7, 2015. Rebuttal comments in response to material submitted during the foregoing period may be submitted during the subsequent 15-day period to July 22, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: May 2, 2015.
Andrew McGilvray,
Executive Secretary.

[FR Doc. 2015-11221 Filed 5-7-15; 8:45 am]

BILLING CODE 3510-DS-P